DEPARTMENT OF HOMELAND SECURITY

[Docket No. DHS-2017-0005]

The President's National Security Telecommunications Advisory Committee

AGENCY: Department of Homeland Security.

ACTION: Committee Management; Notice of Federal Advisory Committee Meeting.

SUMMARY: The President's National Security Telecommunications Advisory Committee (NSTAC) will meet via teleconference on Friday, March 3, 2017. The meeting will be open to the public.

DATES: The NSTAC will meet on Friday, March 3, 2017, from 12:00 p.m. to 1:00 p.m. Eastern Standard Time (EST). Please note that the meeting may close early if the committee has completed its business.

ADDRESSES: The meeting will be held via conference call. For access to the conference call bridge, information on services for individuals with disabilities, or to request special assistance to attend, please email NSTAC@hq.dhs.gov by 5:00 p.m. EST on Monday, February 27, 2017.

Members of the public are invited to provide comment on the issues that will be considered by the committee as listed in the SUPPLEMENTARY INFORMATION section below. Associated briefing materials that participants may discuss during the meeting will be available at www.dhs.gov/nstac for review as of Friday, February 24, 2017. Comments may be submitted at any time and must be identified by docket number DHS-2017-0005. Comments may be submitted by one of the following methods:

• Federal eRulemaking Portal: http://www.regulations.gov. Please follow the instructions for submitting written comments.

• Email: NSTAC@hq.dhs.gov. Include the docket number DHS-2017-0005 in the subject line of the email.

• Fax: (703) 235-5962, ATTN: Sandy Benevides.

• Mail: Designated Federal Officer, Stakeholder Engagement and Critical Infrastructure Resilience Division, National Protection and Programs Directorate, Department of Homeland Security, 245 Murray Lane, Mail Stop 0604, Arlington, VA 20598-0604.

Instructions: All submissions received must include the words “Department of Homeland Security” and the docket number for this action. Comments received will be posted without alteration at www.regulations.gov, including any personal information provided.

Docket: For access to the docket and comments received by the NSTAC, please go to www.regulations.gov and enter docket number DHS-2017-0005.

A public comment period will be held during the conference call on Friday, March 3, 2017, from 12:40 p.m. to 12:55 p.m. EST. Speakers who wish to participate in the public comment period must register in advance and can do so by emailing NSTAC@hq.dhs.gov no later than Monday, February 27, 2017, at 5:00 p.m. EST. Speakers are requested to limit their comments to three minutes and will speak in order of registration. Please note that the public comment period may end before the time indicated, following the last request for comments.

FOR FURTHER INFORMATION CONTACT: Helen Jackson, NSTAC Designated Federal Officer, Department of Homeland Security, (703) 235-5321 (telephone) or helen.jackson@hq.dhs.gov (email).

SUPPLEMENTARY INFORMATION: Notice of this meeting is given under the Federal Advisory Committee Act, 5 U.S.C. appendix (Pub. L. 92-463). The NSTAC advises the President on matters related to national security and emergency preparedness (NS/EP) telecommunications and cybersecurity policy.

Agenda: The NSTAC will hold a conference call on March 3, 2017, to discuss issues and challenges related to NS/EP communications, which will include discussions with high-level Government stakeholders and a review of ongoing NSTAC work, including an update on the NSTAC Emerging Technologies Strategic Vision Subcommittee's study of the near- and longer-term NS/EP implications of emergent and expected information and communications technologies.

Dated: February 2, 2017.
Helen Jackson,
Designated Federal Officer for the NSTAC.

[FR Doc. 2017-03009 Filed 2-14-17; 8:45 am]

BILLING CODE 9110-9P-P